DEPARTMENT OF AGRICULTURE

Animal and Plant Health Inspection Service

7 CFR Part 301

[Docket No. 99-078-2]

Imported Fire Ant; Quarantined Areas and Treatment Dosage

AGENCY: Animal and Plant Health Inspection Service, USDA.

ACTION: Affirmation of interim rule as final rule.

SUMMARY: We are adopting as a final rule, without change, an interim rule that amended the imported fire ant regulations by designating as quarantined areas portions of two counties in California. As a result of the interim rule, the interstate movement of regulated articles from those areas is restricted. The interim rule was necessary to prevent the artificial spread of the imported fire ant to noninfested areas of the United States. The interim rule also amended the treatment provisions in the appendix to the imported fire ant regulations by lowering the dosage rate of bifenthrin wettable powder for the treatment of containerized nursery plants.

EFFECTIVE DATE: The interim rule became effective on November 5, 1999.

FOR FURTHER INFORMATION CONTACT: Mr. Ronald P. Milberg, Operations Officer, Program Support, PPQ, APHIS, 4700 River Road Unit 134, Riverdale, MD 20737-1236; (301) 734-5255.

SUPPLEMENTARY INFORMATION:

Background

In an interim rule effective and published in the Federal Register on November 5, 1999 (64 FR 60333-60335, Docket No. 99-078-1), we amended the imported fire ant (IFA) regulations in 7 CFR part 301 by designating as quarantined areas portions of Los Angeles and Riverside Counties in California. We also amended the treatment provisions in the appendix to the IFA regulations by lowering the dosage rate of bifenthrin wettable powder for the treatment of containerized nursery plants.

Comments on the interim rule were required to be received on or before January 4, 2000. We did not receive any comments. Therefore, for the reasons given in the interim rule, we are adopting the interim rule as a final rule.

This action also affirms the information contained in the interim rule concerning Executive Orders 12866, 12372, and 12988, and the Paperwork Reduction Act.

Further, for this action, the Office of Management and Budget has waived the review process required by Executive Order 12866.

Regulatory Flexibility Act

This action affirms an interim rule that amended the IFA regulations by designating as quarantined areas portions of Los Angeles and Riverside Counties in California. As a result of that action, the interstate movement of regulated articles from those areas is restricted. The interim rule was necessary to prevent the artificial spread of the imported fire ant to noninfested areas of the United States.

The following analysis addresses the economic effect of this rule on small entities, as required by the Regulatory Flexibility Act.

There are approximately 1,219 agricultural entities in the newly regulated areas with annual sales totaling almost $1.29 billion. We have identified approximately 706 affected entities in the newly regulated areas, including wholesale nurseries producing bedding plants and woody ornamentals, wholesale nurseries producing woody ornamentals and turf, retail nurseries, soil moving contracting companies, and landscaping and yard maintenance companies. The majority of these entities would be considered small businesses. In 1997, the market value of nursery crop sales for the affected entities was $243,738,000. We do not know how many of the affected entities move regulated articles interstate; however, the availability of various IFA treatments, which permit the interstate movement of regulated articles with only a small additional cost, minimizes any adverse economic effects due to the interim rule. The average cost for treating a 1 gallon container, which contains one nursery plant, is 2 cents. The average treatment cost for a standard shipment of 10,000 nursery plants, worth anywhere between $10,000 and $250,000, is $200. Entities that do not move regulated articles interstate remain unaffected by the interim rule.

Under these circumstances, the Administrator of the Animal and Plant Health Inspection Service has determined that this action will not have a significant impact on a substantial number of small entities.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 64 FR 60333-60335.

Authority: 7 U.S.C. 147a, 150bb, 150dd, 150ee, 150ff, 161, 162, and 164-167; 7 CFR 2.22, 2.80, and 371.2(c).

Done in Washington, DC, this 4th day of May 2000.
Bobby R. Acord,
Acting Administrator, Animal and Plant Health Inspection Service.

[FR Doc. 00-11829 Filed 5-10-00; 8:45 am]

BILLING CODE 3410-34-U